DEPARTMENT OF TRANSPORTATION

National Highway Traffic Safety Administration

49 CFR Part 571

[Docket No. NHTSA-2009-0150]

Federal Motor Vehicle Safety Standard No. 108; Lamps, Reflective Devices and Associated Equipment

AGENCY: National Highway Traffic Safety Administration (NHTSA), DOT.

ACTION: Denial of petition for rulemaking.

SUMMARY: This document responds to a petition for rulemaking regarding the Federal motor vehicle safety standard for lighting. The Groupe de Travail “Bruxelles 1952” (GTB) and the Society of Automotive Engineers (SAE) Lighting Committee requested that new specifications be added for optional lower beam and upper beam headlamp patterns on the basis they would increase harmonization with European requirements. After completing a technical review of the petition, NHTSA is denying this petition. The agency notes the petitioners did not provide data to demonstrate that the requested new optional specifications would provide safety benefits comparable to those of the existing standard or that cost savings would be realized without compromising safety. Additionally, NHTSA is pursuing a more comprehensive review of the lighting standard and is currently studying the feasibility of many issues and potential regulatory changes, some of which would address issues raised in this petition.

FOR FURTHER INFORMATION CONTACT: For non-legal issues, you may call Mr. David Hines, Office of Crash Avoidance Standards (Phone: 202-493-0245; FAX: 202-366-7002).

For legal issues, you may call Mr. Ari Scott, Office of the Chief Counsel (Phone: 202-366-2992; FAX: 202-366-3820).

You may send mail to these officials at: National Highway Traffic Safety Administration, 1200 New Jersey Avenue, SE., Washington, DC 20590.

SUPPLEMENTARY INFORMATION:

Table of Contents

I. The Petition

II. Agency Technical Evaluation

III. Agency Conclusions

I. The Petition

On July 21, 2004, the SAE Lighting Committee and GTB petitioned the agency to add new specifications to Federal Motor Vehicle Safety Standard (FMVSS) No. 108; Lamps, reflective devices, and associated equipment, for optional upper and lower beam patterns based on specifications pending approval by the United Nations' Economic Commission for Europe (ECE) under ECE R112. If these requested amendments were adopted, manufacturers of vehicles sold in the U.S. would be able to choose to certify products to either the existing requirements of FMVSS No. 108 or the requested alternative new requirements. Modifications to the agency's test procedures were also requested. The petitioners stated that Japan had adopted some of the requested lower beam headlamp test points into its national regulation and that approval was pending to incorporate changes into ECE R112.

The primary elements of the requested new option for FMVSS No. 108 included:

(1) Lower beam headlamp pattern: The petitioners stated that the core of the pattern was based upon 4 critical test points, three of which address main forward seeing light and one establishing a glare limit. Additional test points were added, along with lines and zones. Some test points that are currently regulated under FMVSS No. 108 would be eliminated.

(2) Upper beam headlamp pattern: The petitioners stated that the primary change was increasing the current maximum intensity from 75,000 candela at test point H-V to 140,000 candela anywhere in the pattern. In addition, several downward test points with minimum specified intensities would be eliminated.

(3) Test procedures: The petitioners stated that ECE currently performs photometric tests with an “accurate rated light source” that provides a reference luminous flux at 12.0 volts and this is similar to the FMVSS No. 108 test procedure for signaling lamps, except that approximately 12.8 volts is used. However, for FMVSS No. 108's headlamp photometry test requirements, manufacturers must certify that headlamps meet specified requirements using any compliant, replaceable light source of the type intended for use in the system. In addition, the petitioners stated that efforts were underway to obtain agreement on a common worldwide test voltage.

In support of their request, the petitioners cited long-running efforts to establish the preferred harmonized beam patterns and the approach utilized to consider the most relevant factors for drivers' visual performance. The petitioners stated that because driving environments are different between the United States, Europe, and Japan, drivers' needs may vary but, core principles, such as adequate roadway illumination while controlling glare, are consistent. For example, in the United States sign illumination is an important function of headlamps so applicable photometric minimums exist for test points in the lower beam pattern while these test points do not exist in the ECE pattern, which is more focused on preventing glare to oncoming drivers. The stated goal of the requested optional beam patterns would be to balance the needs of drivers in different parts of the world and establish a workable middle ground.

The petitioners stated that the optional beam patterns could provide the following benefits to consumers and industry:

Consumer benefits: (1) Glare may be reduced because the most relevant maximum intensity is reduced from 1,000 cd to 500 cd; (2) For lower beams, minimum requirements for sign lighting are increased over current levels; (3) For upper beams, object detection and curve following will be improved due to the expanded width of the pattern; (4) For upper beam, seeing distance will be improved by 5-10% due to the increase in maximum intensity; and (5) Globalized headlamps present the potential for reducing consumer costs.

Industry benefits: (1) Cost savings on design, engineering, testing, and tooling costs because the same lamp can be used for multiple markets; (2) Potentially quicker expansion into new markets due to reduced trade barriers; (3) Reduced inventory because of reduced market variants; and (4) Potential savings due to stocking only one lamp for multiple markets rather than multiple lamps for multiple markets.

II. Agency Technical Evaluation

NHTSA reviewed the requested changes made by the petitioners and analyzed the impact they would have on FMVSS No. 108. During our evaluation of the petition, the agency noted several concerns regarding different provisions, as well as an absence of supporting data which might have assisted in addressing such concerns.

Regarding the requested optional set of 4 new lower beam test points, the agency is particularly concerned with the request to replace the existing test point at 1.5D-2R ¹ with a new test point, characterized as emphasizing placement of the high intensity part of the beam further down the road, at 0.6D-1.3R. This requested test point would have a specified minimum intensity of 10,000 candela and no maximum, compared to the current test point's specified minimum intensity of 15,000 candela and no maximum. While FMVSS No. 108 does not specify that headlamps be aimed within a certain tolerance at the time of sale, an industry recommended practice, SAE J 599c Lighting Inspection Code, specifies a tolerance of +/− 0.76 degrees. Because 1.5 degrees is well outside, and 0.6 degrees is within, this stated allowable tolerance, the agency is concerned about the impact the requested change could have on real world glare levels. NHTSA believes an unintended consequence of this requested change could be that vehicles certified to the new option could have headlamps with a level of mis-aim such that high intensities of light are placed above the horizontal, resulting in unacceptable levels of glare to other motorists. The potential effects of this change were not addressed by the petitoners.

¹ In our photometry test point specifications, D means down and R means right (in addition, L means left, U means up, H means horizontal and V means vertical).

The agency also considered the other cited potential benefits of the new lower beam option, such as sign lighting improvements. We believe the cited potential benefits likely would not provide measurable safety benefits in the United States. For sign lighting, the agency notes that while the requested lower beam photometry table contains 3 additional points with specified minimum intensities, 135 cd at 2U-V and 2U-4R and 64 cd at 4U-V (which we believe many headlamps may already meet without the points being specified), it would permit combining the output from parking lamps to meet the lower beam headlamp photometry requirements. We believe this may actually result in a reduction in real world lower beam headlamp performance at the existing test points related to sign lighting.

The agency does believe there may be value in adopting the new photometry zone requirements as contained in the requested lower beam pattern. Our current lower beam photometry requirements are mostly unchanged since their adoption several decades ago and are therefore based on a technology (sealed beam headlamps) that has since greatly evolved. Given changes in technology, the agency believes there may be value in revisiting this issue. For example, the original photometry requirements were such that by specifying certain points, the performance between those points was predictable due to the headlamp designs prevalent then. However, this may not be true today as a variety of headlamp optics can be designed to produce significantly different beam patterns. Adopting zones to better characterize the intended performance of today's headlamps is an issue of interest to the agency as it may be helpful in reducing glare, often from unregulated test zones, which may not have been as prevalent when FMVSS No. 108 was first adopted.

The primary change requested by the petitioners for upper beam photometry was to almost double the current maximum intensity value of 75,000 candela at test point H-V to 140,000 candela anywhere in the beam pattern. The petitioners stated that this request was based on UMTRI Report No. UMTRI-2000-41, “Relative Merits of the U.S. and ECE High-Beam Maximum Intensities and of Two- and Four-Headlamp Systems” but the agency notes this research did not evaluate upper beams with the requested 140,000 candela value. Instead, it evaluated intensities between the existing and newly requested maximum values. Due to the diminishing returns of increasing upper beam intensity, the petitioners cited a 5-10% improvement in seeing distance (due to the almost 87% increase in the maximum value from 75,000 to 140,000 candela). However, the petitioners did not quantify how this might affect safety benefits, and in particular whether any improvements would outweigh any associated disbenefits associated with potential increases in glare due to higher intensity upper beam headlamps.

With regard to the requested test procedures for this option, which would require testing with “accurate rated light sources,” this would be a significant departure from the current approach of specifying requirements using any compliant, replaceable light source of the type intended for use in the system and could, in the agency's opinion, have a negative impact on safety. The agency believes that requiring headlamps to meet specified requirements with production light sources is the best approach because it ensures consumers will obtain the specified performance with the products they purchase, i.e., it requires manufacturers to take into account typical production tolerances and variation in light sources. Modifying the standard to instead specify requirements utilizing testing with “accurate rated light sources,” which do not represent normal production variation, would mean that the performance might not be obtained in the real world. Absent additional changes to ensure that typical production variation was accounted for in the test requirements, the agency believes that the requested change could lead to reduced headlamp performance. The petitioners did not provide any evidence this would not occur.

Regarding the other potential industry benefits cited by the petitioners, the agency notes that no data were submitted to quantify associated cost impacts on consumers. Similarly, the petitioners did not quantify the amount of cost savings related to reduced inventory levels, potentially quicker expansion into new markets due to reduced trade barriers, and less complexity in stocking replacement lamps for multiple markets. We note that the pending approval of the requested changes into ECE R112 cited by the petitioners as anticipated for fall 2004 still has not occurred.

IV. Agency Conclusion

NHTSA notes that while adding a new option would provide some additional flexibility for manufacturers in terms of being able to choose a new beam pattern, we are concerned that there may be a negative impact on safety associated with increased glare levels if the agency were to allow the newly requested lower beam photometry test points and higher intensity upper beam headlamps. The petitioners did not provide sufficient data to demonstrate otherwise or sufficient data to show there would be cost savings to consumers and manufacturers at comparable safety levels. Therefore, NHTSA is denying the petition. However, the agency is separately pursuing a more comprehensive effort to evaluate possible modifications to FMVSS No. 108, with the primary goal being to translate, to the extent possible, the existing provisions (along with their associated underlying assumptions) into performance-oriented terms independent of technology. We anticipate this thorough evaluation will take some time, but in the process, the agency will consider harmonization opportunities and, based upon the results, the agency anticipates it may then be in a position to consider proposing regulatory action to modify our lighting standard.

Issued on: August 18, 2009.
Julie Abraham,
Director, Office of International Policy, Fuel Economy and Consumer Programs.

[FR Doc. E9-20258 Filed 8-21-09; 8:45 am]

BILLING CODE 4910-59-P